DEPARTMENT OF DEFENSE

Department of the Navy

Notice of Meeting of the Board of Visitors of the Marine Corps University

AGENCY: Department of the Navy, DOD.

ACTION: Notice of Open Meeting.

SUMMARY: The Board of Visitors of the Marine Corps University (BOV MCU) will meet to review, develop and provide recommendations on communication aspects of the University in order to further the growth and internal communication practices of the Marine Corps University. All sessions of the meeting will be open to the public.

DATES: The meeting will be held on Friday, October 30, 2009, from 9 a.m. to 4:30 p.m.

ADDRESSES: The meeting will be held at the Embassy Suites Alexandria—Old Town. The address is: 1900 Diagonal Road, Alexandria, Virginia, 22314, telephone number (703) 684-5900.

FOR FURTHER INFORMATION CONTACT: Ms. Davi Michelle Richardson, Faculty Development Coordinator, Marine Corps University Board of Visitors, 2076 South Street, Quantico, Virginia 22134, telephone number (703) 784-2884.

Dated: September 23, 2009.
A.M. Vallandingham,
Lieutenant Commander, Judge Advocate General's Corps, U.S. Navy, Federal Register Liaison Officer.

[FR Doc. E9-23537 Filed 9-29-09; 8:45 am]

BILLING CODE 3810-FF-P